DEPARTMENT OF VETERANS AFFAIRS

Advisory Committee on Minority Veterans, Notice of Meeting

The Department of Veterans Affairs (VA) gives notice under the Public Law 92-463 (Federal Advisory Committee Act) that the Advisory Committee on Minority Veterans will meet on October 25-27, 2011, in room C-7 at the Department of Veterans Affairs, 810 Vermont Avenue, NW., Washington, DC. The sessions will begin at 8 a.m. each day and adjourn at 6:15 p.m. on October 25; at 5:15 p.m. on October 26; and at 5 p.m. on October 27.

The purpose of the Committee is to advise the Secretary on the administration of VA benefits and services to minority Veterans; to assess the needs of minority Veterans; and to evaluate whether VA compensation, medical and rehabilitation services, outreach, and other programs are meeting those needs. The Committee makes recommendations to the Secretary regarding such activities.

On October 25, the Committee will receive briefings and updates from the Veterans Health Administration, Center for Minority Veterans, Office of Policy and Planning, Human Resources and Administration, and a round table discussion with ex-officio members. On October 26, the Committee will receive briefings and updates on the National Cemetery Administration, Office of Public and Intergovernmental Affairs, Veterans Benefits Administration, and Office of Small and Disadvantaged Business Utilization. In the morning on October 27, the Committee will meet at VA Central Office and travel the Congressional Building to meet and have a roundtable discussion with the Congressional Tri-Caucus. Members of this Tri-Caucus include: Congressional Hispanic Caucus, Congressional Black Caucus, and Asian Pacific American Caucus. Upon conclusion, the Committee will adjourn to travel back to VA Central Office to begin working on their after action report. The Committee will receive public comments from 11 a.m. to 11:30 a.m. In the afternoon, the Committee will continue to work on their after action report.

A sign-in sheet for those who want to give comments will be available at the meeting. Individuals who speak are invited to submit a 1-2 page summaries of their comments at the time of the meeting for inclusion in the official meeting record. Members of the public may also submit written statements for the Committee's review to Mr. Dwayne Campbell, Department of Veterans Affairs, Center for Minority Veterans (00M), 810 Vermont Avenue, NW., Washington, DC 20420, or e-mail at Dwayne.campbell3@va.gov. Any member of the public wishing to attend or seeking additional information should contact Mr. Campbell or Mr. Ronald Sagudan at (202) 461-6191 or by fax at (202) 273-7092.

Dated: September 22, 2011.
By Direction of the Secretary.
Vivian Drake,
Acting Committee Management Officer.

[FR Doc. 2011-24774 Filed 9-26-11; 8:45 am]

BILLING CODE 8320-01-P